SMALL BUSINESS ADMINISTRATION

[Disaster Declaration #15293 and #15294; U.S. VIRGIN ISLANDS Disaster Number VI-00009]

Presidential Declaration Amendment of a Major Disaster for the U.S. Virgin Islands

AGENCY: U.S. Small Business Administration.

ACTION: Amendment 3.

SUMMARY: This is an amendment of the Presidential declaration of a major disaster for the U.S. Virgin Islands (FEMA-4335-DR), dated 09/07/2017.

Incident: Hurricane Irma.

Incident Period: 09/05/2017 through 09/07/2017.

DATES: Issued on 09/07/2017.

Physical Loan Application Deadline Date: 12/18/2017.

Economic Injury (EIDL) Loan Application Deadline Date: 06/07/2018.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416, (202) 205-6734.

SUPPLEMENTARY INFORMATION: The notice of the President's major disaster declaration for the U.S. Virgin Islands, dated 09/07/2017, is hereby amended to extend the deadline for filing applications for physical damages as a result of this disaster to 12/18/2017.

All other information in the original declaration remains unchanged.

(Catalog of Federal Domestic Assistance Number 59008)

James E. Rivera,
Associate Administrator for Disaster Assistance.

[FR Doc. 2017-23930 Filed 11-2-17; 8:45 am]

BILLING CODE 8025-01-P